DEPARTMENT OF DEFENSE

Department of the Navy

[Docket ID: USN-2023-HQ-0009]

Proposed Collection; Comment Request

AGENCY: Department of the Navy, Department of Defense (DoD).

ACTION: 60-Day information collection notice.

SUMMARY: In compliance with the Paperwork Reduction Act of 1995, the Marine Corps Training and Education Command (TECOM) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 1, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to United States Marine Corps Training and Education Command, 2007 Elliot Road, Quantico, VA 22134-5010; ATTN: Mr. Larry Smith II, or call 888-435-8762.

SUPPLEMENTARY INFORMATION:

Title; Associated Form; and OMB Number: MarineNet Registration; OMB Control Number 0712-MNET.

Needs and Uses: The Marine Corps Training and Education Command (TECOM) is tasked by the Commandant of the Marine Corps to provide individual entry-level training, professional military education (PME) and continuous professional development. TECOM operates MarineNet, a web-based e-learning portal, to assist in the delivery of required training and PME. A collection of pertinent information (i.e., name, Social Security Number, email address) is necessary for administrative access control to confirm the identity and verify the eligibility of individuals seeking access to the training content on the MarineNet portal. Eligible respondents include active-duty military, reservists, dependents, retirees, Department of Defense (DoD) civilians and contractors seeking initial access to MarineNet for mandatory annual training, PME, and e-learning resources.

Affected Public: Individuals or households.

Annual Burden Hours: 37.83.

Number of Respondents: 454.

Responses per Respondent: 1.

Annual Responses: 454.

Average Burden per Response: 5 minutes.

Frequency: On occasion.

Dated: February 23, 2023.
Aaron T. Siegel,
Alternate OSD Federal Register Liaison Officer, Department of Defense.

[FR Doc. 2023-04094 Filed 2-27-23; 8:45 am]

BILLING CODE 5001-06-P